DEPARTMENT OF COMMERCE

National Oceanic and Atmospheric Administration

RIN 0648-XR12

Fisheries in the Western Pacific; Western Pacific Pelagic Fisheries; American Samoa Longline Limited Entry Program

AGENCY: National Marine Fisheries Service (NMFS), National Oceanic and Atmospheric Administration (NOAA), Commerce.

ACTION: Notice; availability of permit upgrades.

SUMMARY: NMFS is soliciting applications for American Samoa longline limited entry permit upgrades. Nineteen (19) permit upgrades will be available for Class A vessel (less than or equal to 40 ft (12.2 m) in length) permit holders to upgrade to larger vessel size classes (B-1 or C-1). The permit upgrades are available only to Class A permit holders who participated in the fishery before March 22, 2002, and the highest priority for receiving a permit upgrade will be given to the person with the earliest date of documented participation.

DATES: Completed permit upgrade applications must be received by NMFS by November 9, 2009.

ADDRESSES: Application forms are available from NMFS Pacific Islands Region (PIR), Attn: Permits, 1601 Kapiolani Blvd., Suite 1110, Honolulu, HI 96814-4700, or the Pacific Islands Region website at www.fpir.noaa.gov.

Send completed applications to NMFS PIR, Attn: ASLE Permit Upgrade, 1601 Kapiolani Blvd., Suite 1110, Honolulu, HI 96814-4700.

FOR FURTHER INFORMATION CONTACT: Walter Ikehara, NMFS PIR, Tel (808)944-2275, Fax (808) 973-2940.

SUPPLEMENTARY INFORMATION: On May 25, 2005, NMFS published a final rule that established a limited entry program for the pelagic longline fishery based in American Samoa, under Amendment 11 to the Fishery Management Plan for Pelagic Fisheries in the Western Pacific Region (70 FR 29646). American Samoa longline limited entry permits were established for four vessel size classes, based on length:

a. Class A - less than or equal to 40 ft (12.2 m),

b. Class B (and B-1) - over 40 ft (12.2 m) to 50 ft (15.2 m) inclusive,

c. Class C (and C-1) - over 50 ft (15.2 m) to 70 ft (21.3 m) inclusive, and

d. Class D (and D-1) - over 70 ft (21.3 m).

A total of 60 American Samoa longline limited entry permits is allowed in this limited access fishery. The limited entry program allowed for a total of 26 permit upgrades to be made available for the exclusive use of permit holders in Class A, distributed over a four-year period following the issuance of initial limited entry permits in late 2005, and 2009 is the last year of the upgrade program. Nineteen permit upgrades are available: 13 for vessel Class B-1 and six for Class C-1.

The Regional Administrator may issue Class B-1 and C-1 permit upgrades only to persons who currently hold a Class A permit and who participated in the American Samoa pelagic longline fishery before March 22, 2002. The highest priority will be given to those with the earliest date of documented participation. Those receiving upgraded permits must surrender their Class A permits and the surrendered permits are deducted from the allowed Class A permit total. This notice announces the availability of permit upgrades and solicits applications for the upgrades.

On January 28, 2009, NMFS published a notice soliciting applications for American Samoa longline permits (70 FR 4942). In August 2009, NMFS issued permits to certain applicants, and the holders of Class A permits issued in August 2009 may now apply for upgrades.

Complete applications must include the completed and signed application form (see ADDRESSES), legible copies of documents supporting historical participation in the American Samoa pelagic longline fishery, and payment for the non-refundable application processing fee. Documents supporting participation should show that fishing was conducted using longline gear. Applications must be received by NMFS by November 9, 2009 to be considered for eligibility for the 2009 permit upgrades. Applications will not be accepted if received after that date.

Authoritative additional information on the American Samoa limited entry program may be found in the Code of Federal Regulations, Title 50, part 665.

Authority: 16 U.S.C. 1801 et seq.

Dated: September 2, 2009.
Alan D. Risenhoover,
Director, Office of Sustainable Fisheries, National Marine Fisheries Service.

[FR Doc. E9-21879 Filed 9-9-09; 8:45 am]

BILLING CODE 3510-22-S